DEPARTMENT OF HEALTH AND HUMAN SERVICES

Centers for Disease Control and Prevention

[60Day-16-16AR; Docket No. CDC-2016-0073]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on the CDC Undergraduate Scholars Program (CUPS), James A. Ferguson Infectious Diseases Graduate Fellowship (Ferguson) and Student Coordinating Center (SCC) Program Evaluation. Data will be collected for the purpose of evaluating the progress of programmatic activities.

DATES: Written comments must be received on or before October 17, 2016.

ADDRESSES: You may submit comments, identified by Docket No. CDC-2016-0073 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

CDC CUPS, Ferguson Fellowship, and Student Coordinating Center Program Evaluation—Existing Collection in Use Without OMB Control Number—Office of Minority Health and Health Equity (OMHHE), Centers for Disease Control and Prevention (CDC).

Background and Brief Description

The Centers for Disease Control and Prevention (CDC) works to protect America from health, safety and security threats, both foreign and in the United States. As America continues to evolve into a more diverse society, and as CDC strives to fulfill this mission, it contends with the reality that racial and ethnic minority populations assume a much higher burden of morbidity and mortality than the majority of Americans. Particularly challenging for public health is that as the growth of these underrepresented racial-ethnic groups in the United States population increases, the percentage of underrepresented groups working in public health remains stagnant or continues to decline. Research has shown that physicians of underrepresented populations are more likely to provide services in underserved communities; often providing care at much greater frequency than their white counterparts. Therefore, a major part of achieving CDC's mission is to encourage greater numbers of underrepresented students to pursue a career in public health.

The CDC's Undergraduate Scholars Program (CUPS) and the Dr. James A. Ferguson Emerging Infectious Diseases Fellowship (Ferguson) are educational pipeline programs that seek to increase the pool of qualified, underrepresented professionals in the public health workforce by providing students with experiential knowledge and academic learning. The Student Coordinating Center is the operational support arm of CUPS and Ferguson, providing technical support to the grantees and student follow up efforts. The common mission of CUPS and Ferguson is to encourage students, early in their college and graduate educations, to choose a career in public health (federal, state, local, territorial health agencies or non-governmental agencies), public health research, and to contribute to the public health workforce.

Through a highly competitive selection process, each year a new cohort of up to 150 students is chosen. So far, over 900 participants have been recruited and completed the CUPS program. Each year six to eight students are selected to participate in the Ferguson Program. To date, more than 460 students have participated in the Ferguson Fellowship Program. Racial/Ethnic minorities and other underrepresented students comprise the majority (>90%) of those recruited to both programs. All selected participants receive a full day orientation at CDC, where they are introduced to the Centers' leadership, attend symposia; participate in a series of group discussions; and take part in information exchanges. During the CDC orientation, students are also introduced to CDC's priorities, current public health initiatives, and emerging public health issues at the federal level.

After the initial CDC orientation, students are assigned to a variety of public health practice and research settings across the nation, where they are paired with public health mentors who provide the interns a guided experience of public health through instruction that emphasizes skill areas identified as Core Competencies for public health professionals. In addition to mentorship and didactic learning, students also receive real world work experience that provides foundational knowledge for a career in public health.

There are nine data collection instruments administered by the four grantees: Summer Public Health Scholars Program; James A. Ferguson Program; Maternal and Child Health Careers/Research Initiatives for Student Enhancement; Public Health Leadership and Learning Undergraduate Student Success (PLUSS); Project Imhotep; SCC Follow-up Survey (6 months); SCC Follow-up Survey (12 months); SCC Follow-up Survey (24 months); Future Public Health Leaders Program.

The maximum estimated, annualized time burden is 6,081 hours. There is no cost to respondents other than their time.

Estimated Annualized Burden Hours
Type of respondent | Form name | Number of respondents | Number of responses per respondent | Average burden per response (in hrs.) | Total burden hours
Student Participants, Columbia University | Summer Public Health Scholars Program (SPHSP) | 1,600 | 1 | 90/60 | 2,400
Student Participants, Kennedy Krieger Institute, Ferguson Infectious Disease Fellowship Program | James A. Ferguson Program | 310 | 1 | 90/60 | 465
Student Participants, MCH | Maternal and Child Health Careers/Research Initiatives for Student Enhancement | 900 | 1 | 90/60 | 1,350
Student Participants, PPLUSS | Public Health Leadership and Learning Undergraduate Student Success (PPLUSS) | 224 | 1 | 90/60 | 336
Student Participants, IMHOTEP | Project IMHOTEP | 330 | 1 | 90/60 | 495
Former CUPS students | SCC Follow-up Survey (6 months) | 150 | 1 | 30/60 | 75
Former CUPS students | SCC Follow-up Survey (12 months) | 150 | 1 | 30/60 | 75
Former CUPS students | SCC Follow-up Survey (24 months) | 150 | 1 | 30/60 | 75
Student Participants, University of Michigan | Future Public Health Leaders Program | 540 | 1 | 90/60 | 810
Total |  |  |  |  | 6,081

Leroy A. Richardson,
Chief, Information Collection Review Office, Office of Scientific Integrity, Office of the Associate Director for Science, Office of the Director, Centers for Disease Control and Prevention.

[FR Doc. 2016-19460 Filed 8-15-16; 8:45 am]

BILLING CODE 4163-18-P